NUCLEAR REGULATORY COMMISSION

[Docket Nos. 50-272 and 50-311]

PSEG Nuclear, LLC; Notice of Issuance; Correction

AGENCY: Nuclear Regulatory Commission.

ACTION: Notice of issuance; correction.

SUMMARY: This document corrects a notice appearing in the Federal Register on October 14, 2003 (68 FR 59228), that incorrectly stated implementation date requirements for Amendment No. 259 to Facility Operating License DPR-70 for the Salem Nuclear Generating Station, Unit No. 1. The effective date for the license amendment issued on October 1, 2003, should be “as of its date of issuance and shall be implemented prior to the exit from Refueling Outage 1R16.”

FOR FURTHER INFORMATION CONTACT: Robert Fretz, Office of Nuclear Reactor Regulation, U.S. Nuclear Regulatory Commission, Washington, DC 20555-0001; telephone (301) 415-1324, e-mail: rxf@nrc.gov.

Dated in Rockville, Maryland, this 28th day of October 2003.
For the Nuclear Regulatory Commission.
George F. Wunder,
Project Manager, Section 2, Project Directorate I, Division of Licensing Project Management, Office of Nuclear Reactor Regulation.

[FR Doc. 03-27801 Filed 11-4-03; 8:45 am]

BILLING CODE 7590-01-P